DEPARTMENT OF HOMELAND SECURITY

[Docket No. DHS-2015-0026]

Homeland Security Science and Technology Advisory Committee Charter Renewal

AGENCY: Homeland Security Science and Technology Advisory Committee. (HSSTAC), Department of Homeland Security.

ACTION: Committee management; notice of Federal Advisory Committee charter renewal.

SUMMARY: The Secretary of Homeland Security has determined that the renewal of the charter of the Homeland Security Science and Technology Advisory Committee (HSSTAC) is necessary and in the public interest in connection with the Department of Homeland Security, Science and Technology Directorate's performance of its duties. This determination follows consultation with the Committee Management Secretariat, General Services Administration.

ADDRESSES: If you desire to submit comments on this action, they must be submitted by August 14, 2015. Comments must be identified by (DHS-2015-0026) and may be submitted by one of the following methods:

• Federal eRulemaking Portal: http://www.regulations.gov. Follow the instructions for submitting comments.

• Email: Bishop.Garrison@hq.dhs.gov. Include the docket number in the subject line of the message.

• Fax: 202-254-6176.

• Mail: Bishop Garrison, HSSTAC Executive Director, Science and Technology Directorate, Department of Homeland Security, 245 Murray Lane, IAO Stop 0205, Washington, DC 20528-0205

• Instructions: All submissions received must include the words “Department of Homeland Security” and DHS-2015-0026, the docket number for this action. Comments received will be posted without alteration at http://www.regulations.gov including any personal information provided.

• Docket: For access to the docket to read background documents or comments received, go to http://www.regulations.gov.

FOR FURTHER INFORMATION CONTACT: Bishop Garrison, HSSTAC Executive Director, Science and Technology Directorate, Department of Homeland Security, 245 Murray Lane, IAO Stop 0205, Washington, DC 20528-0205, 202-254-5866 (O) 202-254-6176 (F), Bishop.Garrison@hq.dhs.gov.

SUPPLEMENTARY INFORMATION:

Purpose and Objective: The charter of the Homeland Security Science and Technology Committee (HSSTAC) is being renewed in accordance with the provisions of the Federal Advisory Committee Act (FACA), Title 5 United States Code, Appendix. The committee addresses science and technology needs and trends, management processes and organizational constructs, and other matters of special interest to the Under Secretary of Science and Technology and will ensure the identification of new technologies and application of new technologies in those areas to strengthen homeland security.

Duration: The committee's charter is effective June 15, 2015 and expires June 14, 2017.

Responsible DHS Officials: Bishop Garrison, HSSTAC Executive Director, Science and Technology Directorate, Department of Homeland Security, 245 Murray Lane, IAO Stop 0205, Washington, DC 20528-0205, 202-254-5617 (O), 202-254-6176 (F), Bishop.Garrison@hq.dhs.gov.

Dated: June 23, 2015.
Dr. Reginald Brothers,
Under Secretary for Science and Technology.

[FR Doc. 2015-16156 Filed 6-30-15; 8:45 am]

BILLING CODE 9110-9F-P